DEPARTMENT OF TRANSPORTATION

National Highway Traffic Safety Administration

[Docket No. NHTSA 2000-8201; Notice 1]

Subaru of America, Inc., Receipt of Application for Decision of Inconsequential Noncompliance Regarding Headlamp Lens Marking

Subaru of America, Inc., of Cherry Hill, New Jersey, has determined that certain headlamp lens assemblies manufactured by North American Lighting, Inc., are not in full compliance with Federal Motor Vehicle Safety Standard (FMVSS) No. 108, “Lamps, reflective devices, and associated equipment.” Pursuant to 49 U.S.C. 30118(d) and 30120(h), Subaru has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

FMVSS No. 108 establishes the performance and equipment requirements for lamps, reflective devices and associated equipment. Under S7.5(g) of FMVSS No. 108, the lens of each replaceable bulb headlamp shall bear permanent marking in front of each replaceable light source with which it is equipped that states the official light source type designation.

Under S7.8.5.3(f)(2), the lens shall have a mark or markings identifying the optical axis of the headlamp visible from the front of the headlamp when installed on the vehicle, to assure proper horizontal and vertical alignment.

Approximately 87 headlamp lens assemblies manufactured by North American Lighting, Inc., for use in Model Year 2000 Subaru Legacy and Outback vehicles were installed on production vehicles from October 5, 1999, through December 5, 1999. During the manufacturing process, “headlamp assemblies were assembled with lens covers with the wrong marking specification required under FMVSS 108, S7.5(g) and FMVSS 108, S7.8.5.3(f)(2).”

Because there are two different headlamp designs, a 2-bulb version and a 1-bulb version, both the same shape, there are two different lenses that are molded. The manufacturing process for assembling these headlamps mismatched the 2-bulb lens and 1-bulb lens assemblies resulting in the noncompliance.

Subaru stated that the installation of the incorrect lens in the 2-bulb and 1-bulb headlamp assemblies does not result in performance variations in beam light patterns resulting in the noncompliances with FMVSS 108.

Subaru's supporting data, views and arguments are as follows:

(1) Headlamp aiming performed during the manufacturing process does not rely on lens marking for beam pattern alignment. The result is proper alignment regardless of the mismatch in headlamp assembly lens.

(2) The rate of replacement for headlamp bulbs within the 3/36 warranty period is 0.6 percent. The remaining parts demand for headlamp bulbs is due to collision which results in purchase and installation of new headlamp assemblies not containing the noncompliance.

(3) Installation of replacement headlamp bulbs is outlined in the Service Manual for Subaru Legacy vehicles. The Service Manual procedure for alignment of the headlamp does not rely on the markings found in noncompliance, but rather references the center marking on the bulb.

(4) Incorrect lens assembly installation results in the following light performance variations:

2-bulb lens on 1-bulb assembly: slight decrease in long range visibility, but within FMVSS performance requirements.

1-bulb lens on 2-bulb assembly: Slight broadening of the beam pattern. Vertical alignment specification variation does not exceed 0.57 degrees plus/minus specified aiming.

(5) There is a small possibility that consumers would purchase replacement bulbs for non-dealer installation based on the incorrect marking. However, the incorrect bulb will not install in the headlamp assembly irrespective of the incorrect marking. Additionally, the owner's manual provides the correct specification for replacement bulbs required.

Subaru also submitted data which show the difference in beam patterns of the four possible bulb combinations in the two lamp housings. The data are in the docket for this application.

The petitioner has indicated that the noncompliances will not result in any safety, reliability or serviceability concern for the operator of a subject motor vehicle.

Interested persons are invited to submit written data, views, and arguments on the application described above. Comments should refer to the docket number and be submitted to : U.S. Department of Transportation, Docket Management, Room PL-401, 400 Seventh Street, SW, Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: December 6, 2000.

(49 U.S.C. 301118, 301120; delegations of authority at 49 CFR 1.50 and 501.8)

Issued on: November 1, 2000.
Stephen R. Kratzke,
Associate Administrator for Safety Performance Standards.

[FR Doc. 00-28343 Filed 11-03-00; 8:45 am]

BILLING CODE 4910-59-P